DEPARTMENT OF ENERGY

Federal Energy Regulatory Commission

[Project No. 2100-185]

California Department of Water Resources; Notice of Availability of Final Environmental Assessment

In accordance with the National Environmental Policy Act of 1969 and the Federal Energy Regulatory Commission's (Commission) regulations, 18 CFR part 380, the Office of Energy Projects has reviewed the application for an amendment of the license for the Feather River Hydroelectric Project, located on the Feather River in Butte County, and has prepared a final Environmental Assessment (FEA) for the project. The project occupies federal lands administered by the U.S. Forest Service and U.S. Bureau of Land Management.

The FEA contains the staff's analysis of the environmental effects of the proposed amendment and concludes that approving the amendment would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

For further information, contact Alicia Burtner at (202) 502-8038 or Alicia.Burtner@ferc.gov.

Dated: September 1, 2022.
Kimberly D. Bose,
Secretary.

[FR Doc. 2022-19403 Filed 9-7-22; 8:45 am]

BILLING CODE 6717-01-P